FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than April 3, 2003.

A. Federal Reserve Bank of Atlanta (Sue Costello, Vice President) 1000 Peachtree Street, N.E., Atlanta, Georgia 30303:

1. Leonard Miller Revocable Declaration of Trust, Stuart A. Miller, Jeffrey S. Miller, and Brian L. Bilzin, all of Miami Beach, Florida, and Leslie M. Saiontz, Miami, Florida, as Trustees; to retain voting shares of UB Financial Corporation, Sunrise, Florida, and thereby indirectly retain voting shares of Union Bank of Florida, Lauderhill, Florida.

B. Federal Reserve Bank of St. Louis (Randall C. Sumner, Vice President) 411 Locust Street, St. Louis, Missouri 63166-2034:

1. Steven Earl Shock, Poplar Buff, Missouri

, to become trustee and thereby gain control of Midwest Bancorporation, Inc., and Affiliates ESOP, Poplar Bluff, Missouri, and thereby indirectly gain control of First Midwest Bank of Carter County, Van Buren, Missouri; First Midwest Bank of Dexter, Dexter, Miissour, and First Midwest Bank of Piedmont, Piedmont, Missour.

2. R.W. Butler Irrevocable Family Trust Number 1, Little Rock, Arkansas; to acquire additional voting shares of First Paris Holding Company, Paris, Arkansas, and thereby indirectly acquire additional voting shares of The First National Bank at Paris, Paris, Arkansas.

In connection with this application, Beth Eaton, Little Rock, Arkansas, Patricia Butler, Little Rock, Arkansas, James T. Butler, Harrisburg, Arkansas, as trustees, have applied to increase their individual direct and indirect ownership, control or the power to vote of of First Paris Holding Company.

Board of Governors of the Federal Reserve System, March 14, 2003.
Jennifer J. Johnson,
Secretary of the Board.

[FR Doc. 03-6671 Filed 3-19-03; 8:45 am]

BILLING CODE 6210-01-S